ENVIRONMENTAL PROTECTION AGENCY

40 CFR Part 52

[EPA-R10-OAR-2014-0455: FRL-9911-64-Region-10]

Adequacy Determination for the Kent, Seattle, and Tacoma, Washington PM10 State Implementation Plan for Transportation Conformity Purposes

AGENCY: Environmental Protection Agency (EPA).

ACTION: Notice of adequacy determination.

SUMMARY: The Environmental Protection Agency (EPA) is notifying the public of its finding that the Kent, Seattle, and Tacoma second 10-year limited maintenance plan (LMP) for particulate matter with an aerodynamic diameter of a nominal 10 microns or less (PM10) is adequate for transportation conformity purposes. The LMP was submitted to the EPA by the State of Washington Department of Ecology (Ecology or the State) on November 25, 2013. As a result of our adequacy finding, regional emissions analyses will no longer be required as part of the transportation conformity demonstrations for PM10 for the Kent, Seattle, and Tacoma areas.

DATES: This finding is effective June 16, 2014.

FOR FURTHER INFORMATION CONTACT: The finding will be available at the EPA's conformity Web site: http://www.epa.gov/otaq/stateresources/transconf/adequacy.htm. You may also contact Dr. Karl Pepple, U.S. EPA, Region 10 (OAWT-107), 1200 Sixth Ave., Suite 900, Seattle WA 98101; (206) 553-1778; or by email at pepple.karl@epa.gov.

SUPPLEMENTARY INFORMATION: This action provides notice of the EPA's adequacy finding regarding the second 10-year PM10 limited maintenance plan for Kent, Seattle, and Tacoma (LMP) for purposes of transportation conformity. The EPA's finding was made pursuant to the adequacy review process for implementation plan submissions delineated at 40 CFR 93.118(f)(1) under which the EPA reviews the adequacy of a state implementation plan (SIP) submission prior to the EPA's final action on the implementation plan.

The State submitted the LMP to the EPA on November 25, 2013. Pursuant to 40 CFR 93.118(f)(1), the EPA notified the public of its receipt of this plan and its review for an adequacy determination on the EPA's Web site and requested public comment by no later than January 10, 2014. Additionally, the EPA announced the public comment period on the entire LMP in the Federal Register on December 26, 2013 (78 FR 78311). The EPA received a request to extend the comment period and announced a comment period extension to March 10, 2014 in a notice published on February 6, 2014 (79 FR 7126). The EPA received no comments on the on-road vehicle portion of the plan during the comment period. As part of our review, we also reviewed comments on the LMP submitted to the State of Washington during the State's public process. There were no adverse comments directed at the on-road portion of the plan that were submitted during the State hearing process regarding the new Plan.

However, the EPA did receive adverse comments on potential future emissions in the non-road portion of the LMP. Nevertheless, the EPA believes it is appropriate to find this LMP adequate for purposes of transportation conformity while the EPA continues to review the plan and comments received. This adequacy finding is not dispositive of the EPA's ultimate approval or disapproval of the LMP.

The EPA notified Ecology in a letter dated April 9, 2014 (adequacy letter), subsequent to the close of the EPA comment period, that the EPA had found the LMP to be adequate for use for transportation conformity purposes. A copy of the adequacy letter and its enclosure are available in the docket for this action and at the EPA's conformity Web site: http://www.epa.gov/otaq/stateresources/transconf/adequacy.htm.

Pursuant to 40 CFR 93.109(l), limited maintenance plans are not required to contain on-road motor vehicle emissions budgets. Accordingly, as a result of this adequacy finding, regional emissions analyses will no longer be required as a part of the transportation conformity demonstrations for PM10 for the Kent, Seattle, and Tacoma areas. However, other conformity requirements still remain such as consultation (40 CFR 93.112), transportation control measures (40 CFR 93.113), and project level analysis (40 CFR 93.116).

Transportation conformity is required by section 176(c) of the Clean Air Act. Transportation conformity to a SIP means that on-road transportation activities will not produce new air quality violations, worsen existing violations, or delay timely attainment of the national ambient air quality standards. The minimum criteria by which we determine whether a SIP is adequate for conformity purposes are specified at 40 CFR 93.118(e)(4). The EPA's analysis of how the LMP satisfies these criteria is found in the adequacy letter and its enclosure. The EPA's adequacy review is separate from the EPA's SIP completeness review and it is not dispositive of the EPA's ultimate action on the SIP.

Authority: 42 U.S.C. 7401-767Iq.

Dated: May 23, 2014.
Michelle L. Pirzadeh,
Acting Regional Administrator, Region 10.

[FR Doc. 2014-12604 Filed 5-29-14; 8:45 am]

BILLING CODE 6560-50-P